ENVIRONMENTAL PROTECTION AGENCY

[FRL-7516-2]

Proposed CERCLA Administrative Settlement—Second Group De Minimis Settlement—Rocky Flats Industrial Park Site, Jefferson County, CO

AGENCY: Environmental Protection Agency (EPA).

ACTION: Notice and request for public comment.

SUMMARY: In accordance with the requirements of section 122(i) of the Comprehensive Environmental Response, Compensation, and Liability Act, as amended (“CERCLA”), 42 U.S.C. 9622(i), notice is hereby given of a proposed administrative settlement under section 122(g)of CERCLA, 42 U.S.C. 9622(g), concerning the Rocky Flats Industrial Park site located in the 17,000 block of Colorado Highway 72, approximately two miles east of the intersection of Colorado Highways 93 and 72, in section 23, T2N, in Jefferson County, Colorado. This settlement, embodied in a CERCLA section 122(g) Administrative Order on Consent—Second Group De Minimis Settlement (“AOC”), is designed to resolve each settling parties’ liability at the Site for past work, past response costs and specified future work and response costs through covenants under sections 106 and 107 of CERCLA, 42 U.S.C. 9606 and 9607. The proposed AOC requires the settling parties listed in the Supplementary Information section below to pay an aggregate total of $117,282.54.

Opportunity for Comment: For thirty (30) days following the date of publication of this notice, the Agency will consider all comments received and may modify or withdraw its consent to the settlement if comments received disclose facts or considerations which indicate that the settlement is inappropriate, improper, or inadequate. The Agency's response to any comments received will be available for public inspection at the EPA Superfund Record Center, 999 18th Street, 5th Floor, in Denver, Colorado.

DATES: Comments must be submitted on or before July 21, 2003.

ADDRESSES: The proposed settlement and additional background information relating to the settlement are available for public inspection at the EPA Superfund Record Center, 999 18th Street, 5th Floor, in Denver, Colorado. Comments and requests for a copy of the proposed settlement should be addressed to Carol Pokorny (8ENF-T), Technical Enforcement Program, U.S. Environmental Protection Agency, 999 18th Street, Suite 300, Denver, Colorado 80202-2466, and should reference the Rocky Flats Industrial Park Site, Jefferson County, Colorado and the EPA docket number CERCLA-8-2003-0006.

FOR FURTHER INFORMATION CONTACT: Carol Pokorny, Enforcement Specialist (8ENF-T), Technical Enforcement Program, U.S. Environmental Protection Agency, 999 18th Street, Suite 300, Denver, Colorado 80202-2466, (303) 312-6970.

SUPPLEMENTARY INFORMATION: Proposed AOC for Second Group De Minimis Settlement under section 122(g) of CERCLA, 42 U.S.C. 9622(g): In accordance with section 122(i) of CERCLA, 42 U.S.C. 9622(i), notice is hereby given that the terms of the AOC have been agreed to by the following settling parties, for the following amounts:

Rocky Flats Industrial Park Site, Second Group De Minimis Settlement, Settling Respondents
Name of settling respondent | Settlement cost share
1. AMF Head, c/o Head Penn Racquet Sports | 1,983.89
2. Arthur's Auto Body | 649.13
3. Buffalo Distributing, Inc | 2,499.19
4. Cache Cleaners—Boulder | 2,009.77
5. Camelot Cleaners | 631.28
6. Century Chevrolet | 6,199.25
7. Chambers Square Cleaners | 876.00
8. Cherrelyn Cleaners, Inc. (previous owner) | 1,180.00
9. Cherrelyn Cleaners, Inc. (current owner) | 1.43
10. Comet One-Hour Cleaners | 479.95
11. Continental Cleaners—Highlands Ranch | 2,490.42
12. Continental Cleaners—Westminster | 1,302.74
13. Denver Instrument Company | 3,472.88
14. Dependable Cleaners #23 | 1,365.41
15. Dependable Cleaners & Shirt Laundry, Inc. #4, #24 | 561.91
16. Dollar Cleaners | 857.07
17. Dugout Cleaners #1 | 1,858.13
18. E.C. Nissan (E.C. Datsun) | 2,726.37
19. Eastmoore Quality Autobody, Inc | 1,622.85
20. Ed Bozarth Chevrolet | 2,596.54
21. Esquire Valet Cleaners | 694.58
22. Gardner Signs Inc | 5,017.82
23. Ghents Motors Co | 2,271.98
24. Gigantic Cleaners #2—Denver | 1,395.64
25. Gigantic Cleaners #7 | 2,818.88
26. Gung Ho Cleaners | 1,160.64
27. Hanneck Cleaners (Main) | 608.77
28. Hanneck Cleaners (South) | 592.34
29. Heckendorf Paint | 701.08
30. Heritage Cleaners | 1,246.53
31. High Country Auto Body | 4,887.98
32. Hunter Douglas | 778.96
33. Import Coachworks, Ltd | 5,716.00
34. JM Auto Service, Inc | 4,516.00
35. Joffer Auto Body | 1,687.75
36. Kiper Automotive, Inc | 2,823.75
37. Klean Rite Cleaners | 665.55
38. Manufacturing Unlimited, Inc | 5,290.46
39. McMahn Cleaners Inc | 1,025.64
40. One Hour Cleaners | 617.00
41. Payless Cleaners, Inc | 841.25
42. Precision Auto Body | 1,979.86
43. R.E.B., Inc./Bender's Nu Look Cleaners | 623.17
44. Right Price Cleaners | 523.76
45. Roger Mauro Dodge—AutoNation, Inc | 1,298.28
46. Sargent Industries | 7,140.49
47. Spence's Body Tec Corporation | 9,477.39
48. Stanford Applied Engineering | 1,168.45
49. Stevinson Chevrolet | 11,898.67
50. United Rentals | 1,882.48
51. Village Cleaners, Inc | 567.18
Total costs to be recovered in this settlement | 117,282.54

Dated: June 11, 2003.
Eddie A. Sierra,
Acting Assistant Regional Administrator, Office of Enforcement, Compliance and Environmental Justice.

[FR Doc. 03-15666 Filed 6-19-03; 8:45 am]

BILLING CODE 6560-50-P